DEPARTMENT OF COMMERCE

U.S. Census Bureau

Proposed Information Collection; Comment Request; Advance Monthly Retail Trade Survey

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 1, 2012.

ADDRESSES: Direct all written comments to Jennifer Jessup, Departmental Paperwork Clearance Officer, Department of Commerce, Room 6616, 14th and Constitution Avenue NW., Washington, DC 20230, (202) 482-0336, (or via the Internet at JJessup@doc.gov).

FOR FURTHER INFORMATION CONTACT: Requests for additional information or copies of the information collection instrument(s) and instructions should be directed to: Karla Allen, U.S. Census Bureau, SSSD HQ-8K183A, 4600 Silver Hill Road, Washington, DC 20233-6500, (301) 763-7208 (or via the Internet at Karla.l.Allen@census.gov).

SUPPLEMENTARY INFORMATION:

I. Abstract

The Advance Monthly Retail Trade Survey (MARTS) provides an early indication of monthly sales for firms located in the United States and classified in the Retail Trade or Food Services sectors as defined by the North American Industry Classification System (NAICS).

The MARTS sample is comprised of approximately 5,000 firms selected from the larger Monthly Retail Trade Survey sample of about 12,000 firms (OMB Control Number: 0607-0717). Firms are selected into the MARTS sample using a stratified design where the strata are defined by industry and size. The MARTS sample is re-selected, generally at 2½ to 3 year intervals, to ensure it is representative of the target population.

The survey requests sales and e-commerce sales for the month just ending. If reporting data for a period other than the calendar month, the survey asks for the period's length (4 or 5 weeks) and date on which the period ended. The survey also asks for the number of establishments covered by the data provided and whether or not the sales data provided are estimates or more accurate “book” figures.

Survey results are available approximately 9 working days after the end of the reference month. The Bureau of Economic Analysis (BEA) uses the survey results as critical inputs to the calculation of the Gross Domestic Product (GDP). Policymakers such as the Federal Reserve Board (FRB) need to have the timeliest estimates in order to anticipate economic trends and act accordingly. The Council of Economic Advisors (CEA) and other government agencies and businesses use the survey results to formulate and make decisions about economic policy. These estimates have a high priority because of their timeliness. There would be approximately a one-month delay in the availability of these results if the survey were not conducted.

II. Method of Collection

We will collect this information by mail, fax, telephone follow-up, and Internet (during the second half of 2012).

III. Data

OMB Control Number: 0607-0104.

Form Number: SM-44(06)A, SM-44(06)AE, SM-44(06)AS, and SM-72(06)A.

Type of Review: Regular Submission.

Affected Public: Retail and Food Services firms in the United States.

Estimated Number of Respondents: 5,000.

Estimated Time Per Response: 5 minutes.

Estimated Total Annual Burden Hours: 5,000.

Estimated Total Annual Cost: The cost to the respondents for the fiscal year 2012 is estimated to be $165,750.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 27, 2012.
Glenna Mickelson,
Management Analyst, Office of the Chief Information Officer.

[FR Doc. 2012-7736 Filed 3-30-12; 8:45 am]

BILLING CODE 3510-07-P